DEPARTMENT OF ENERGY

Proposed Agency Information Collection

AGENCY: Office of Energy Efficiency and Renewable Energy, U.S. Department of Energy.

ACTION: Notice and request for comments.

SUMMARY: The U.S. Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 8, 2012. If you anticipate difficulty in submitting comments within that period, contact the person listed in ADDRESSES as soon as possible.

ADDRESSES: Written comments may be sent to James R. Brodrick, U.S. Department of Energy, 1000 Independence Avenue SW., Washington, DC 20585 or by email at James.Brodrick@ee.doe.gov.

FOR FURTHER INFORMATION CONTACT: Requests for additional information or copies of the information collection instrument and instructions should be directed to James R. Brodrick, U.S. Department of Energy, 1000 Independence Avenue SW., Washington, DC 20585 or by email at James.Brodrick@ee.doe.gov.

SUPPLEMENTARY INFORMATION: This information collection request contains: (1) OMB No. New; (2) Information Collection Request Title: Bright Tomorrow Lighting Competition (L Prize®): Field Assessment and Post Prize Monitoring; (3) Type of Request: New; (4) Purpose: The Bright Tomorrow Lighting Competition was authorized in the Energy Independence and Security Act of 2007 (EISA), Subtitle E, Section 655, to encourage development and deployment of highly energy efficient solid-state lighting (SSL) products to replace several of the most common lighting products currently used in the United States. Field assessments contribute to the evaluation of L Prize entries in a wide range of lighting applications. The field assessments evaluate energy use of the installed product, the lighting system performance compared to the existing technology, and user feedback. The objective of field testing is to obtain installation data and user acceptance, in order to evaluate the product and determine its potential to be declared a winner. Additionally, DOE plans to monitor the impact of the L Prize competition through post-prize monitoring of incentive programs, educational campaigns, and retail promotions. This monitoring will include measuring the number of customers reached, bulbs sold, energy savings, and other tangible benefits; (5) Annual Estimated Number of Respondents: 526; (6) Annual Estimated Number of Total Responses: 526; (7) Annual Estimated Number of Burden Hours: 115; (8) Annual Estimated Reporting and Recordkeeping Cost Burden: $0.

Statutory Authority: 42 U.S.C. 17243.

Issued in Washington, DC, on April 3, 2012.
Kathleen B. Hogan,
Deputy Assistant Secretary of Energy, Energy Efficiency and Renewable Energy.

[FR Doc. 2012-8471 Filed 4-6-12; 8:45 am]

BILLING CODE 6450-01-P